DEPARTMENT OF HEALTH AND HUMAN SERVICES

Centers for Disease Control and Prevention

Healthcare Infection Control Practices Advisory Committee (HICPAC)

AGENCY: Centers for Disease Control and Prevention (CDC), Department of Health and Human Services (HHS).

ACTION: Notice of meeting.

SUMMARY: In accordance with regulatory provisions, the Centers for Disease Control and Prevention (CDC) announces the following meeting of the Healthcare Infection Control Practices Advisory Committee (HICPAC). This is a virtual meeting. The public is welcomed to listen to the meeting live via webcast on the World Wide Web. The webcast link can be found on the HICPAC website at www.cdc.gov/hicpac/meeting.html. Time will be available for public comment.

DATES: The meeting will be held on November 2, 2023, 9 a.m. to 5 p.m., EDT, and November 3, 2023, 9 a.m. to 12 p.m., EDT.

ADDRESSES: The meeting will be webcast live via the World Wide Web. The webcast link can be found on the HICPAC website at www.cdc.gov/hicpac/meeting.html.

FOR FURTHER INFORMATION CONTACT: Sydnee Byrd, M.P.A., HICPAC, Division of Healthcare Quality Promotion, NCEZID, CDC, l600 Clifton Road NE, Mailstop H16-3, Atlanta, Georgia 30329, Telephone (404) 718-8039. Email: hicpac@cdc.gov.

SUPPLEMENTARY INFORMATION:

Purpose: The Committee is charged with providing advice and guidance to the Director, Division of Healthcare Quality Promotion (DHQP), the Director, National Center for Emerging and Zoonotic Infectious Diseases (NCEZID), the Director, CDC, and the Secretary, Health and Human Services, regarding (1) the practice of healthcare infection prevention and control; (2) strategies for surveillance, prevention, and control of infections, antimicrobial resistance, and related events in settings where healthcare is provided; and (3) periodic updating of CDC guidelines and other policy statements regarding prevention of healthcare-associated infections and healthcare-related conditions.

Matters to be Considered: The agenda will include updates on CDC's activities for prevention of healthcare-associated infections. It will also include updates from the following HICPAC workgroups: the Isolation Precautions Guideline workgroup, the Dental Unit Waterline Guideline Workgroup, the Healthcare Personnel Guideline Workgroup, and the National Healthcare Safety Network (NHSN) Workgroup. The agenda also includes updates on CDC and DHQP activities. Agenda items are subject to change as priorities dictate.

Public Participation

Oral Public Comment: This meeting will include time for members of the public to make an oral comment. Priority will be given to individuals who submit a request to make an oral public comment before the meeting according to the following procedures: All persons interested in making an oral public comment at the November 2-3, 2023 HICPAC meeting must submit a request between October 2, 2023 and October 22, 2023, at https://www.cdc.gov/hicpac/meeting.html no later than 11:59 p.m., EDT, October 22, 2023, according to the instructions provided on the HICPAC website. If the number of persons requesting to speak is greater than can be reasonably accommodated during the scheduled time, CDC will conduct a random draw to determine the speakers for the scheduled public comment session. CDC staff will notify individuals regarding their request to speak by email on October 30, 2023. To accommodate the significant interest in participation in the oral public comment session of HICPAC meetings, each speaker will be limited to three minutes, and each speaker may only speak once per meeting.

Written Public Comment: The public is welcome to submit written comments in advance of the meeting. The written public comment period will open November 1, 2023, and will close at 11:59 p.m., EDT on November 6, 2023. Comments should be submitted in writing by email to the HICPAC inbox at hicpac@cdc.gov. All requests must contain the name, address, and organizational affiliation of the speaker, as well as the topic being addressed. Written comments should not exceed one single-spaced typed page in length. Written comments received in advance of the meeting will be included in the official record of the meeting.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2023-22327 Filed 10-6-23; 8:45 am]

BILLING CODE 4163-18-P